DEPARTMENT OF HOMELAND SECURITY

Bureau of Customs and Border Protection

19 CFR Part 101

Extension of Port Limits of Memphis, TN

AGENCY: Customs and Border Protection, DHS.

ACTION: Notice of proposed rulemaking.

SUMMARY: This document proposes to extend the port limits of the port of Memphis, Tennessee, to include all of the territory within the limits of DeSoto County, northern Mississippi. The port extension is being proposed in order to facilitate economic development in northern Mississippi, and to provide convenience and improved service to carriers, importers, and the general public.

DATES: Comments must be received on or before March 15, 2004.

ADDRESSES: Comments must be submitted to the Bureau of Customs and Border Protection, Office of Regulations and Rulings, (Attention: Regulations Branch), 1300 Pennsylvania Avenue, NW., Washington, DC 20229. Submitted comments may be inspected at the CBP, 799 9th Street, NW., Washington, DC during regular business hours.

Arrangements to inspect submitted comments should be made in advance by calling Mr. Joseph Clark at 202-572-8768.

FOR FURTHER INFORMATION CONTACT: Dennis Dore, Office of Field Operations, 202-927-6871.

SUPPLEMENTARY INFORMATION:

Background

The Bureau of Customs and Border Protection (CBP) is proposing to extend the port limits of the port of Memphis, to include all of the territory within the limits of DeSoto County, northern Mississippi, as described below. Recently, northern Mississippi has experienced marked business expansion and population growth. Currently, businesses located in northern Mississippi utilize the nearest port of entry at Memphis, Tennessee, and the port limits of Memphis do not extend beyond the Tennessee border. The proposed extension of the port limits to include the specified territory will facilitate economic development in northern Mississippi, and provide convenience and improved service to carriers, importers, and the general public.

Current Port Limits of Memphis, Tennessee

The current port limits of Memphis, Tennessee are described as follows in Treasury Decision (T.D.) 84-126 of May 14, 1984:

[T]he corporate limits of the city of Memphis, Tennessee* * * [and] all of the territory within the limits of Shelby County, Tennessee.

Proposed Port Limits of Memphis, Tennessee

CBP proposes to extend the port limits of the port of Memphis, Tennessee, to include DeSoto County, Mississippi so that the description of the port limits would read as follows:

The city limits of Memphis, Tennessee and all of the territory within the limits of Shelby County, Tennessee and DeSoto County, Mississippi.

Proposed Amendment to Customs Regulations

If the proposed port limits are adopted, CBP will amend § 101.3(b)(1), Customs Regulations (19 CFR 101.3(b)(1)) to reflect the new boundaries of the Memphis port of entry.

Authority

This change is proposed under the authority of 5 U.S.C. 301 and 19 U.S.C. 2, 66 and 1624.

Signing Authority

The document is being issued in accordance with section 0.2(a) of the Customs Regulations (19 CFR 0.2(a)).

Comments

Before adopting this proposal, consideration will be given to any written comments that are timely submitted to CBP. All such comments received from the public, pursuant to this notice of proposed rulemaking, will be available for public inspection in accordance with the Freedom of Information Act (5 U.S.C. 552) and section 103.11(b), Customs Regulations (19 CFR 103.11(b)), during regular business days between the hours of 9 a.m. and 4:30 p.m. at the Regulations Branch, Office of Regulations and Rulings, Customs and Border Protection, Department of Homeland Security, 799 9th Street, NW., Washington, DC.

Regulatory Flexibility Act and Executive Order 12866

CBP establishes, expands and consolidates CBP ports of entry throughout the United States to accommodate the volume of CBP-related activity in various parts of the country. Thus, although this document is being issued with notice for public comment, because it relates to agency management and organization, it is not subject to the notice and public procedure requirements of 5 U.S.C. 553. Accordingly, this document is not subject to the provisions of the Regulatory Flexibility Act (5 U.S.C. 601 et seq). Agency organization matters such as this proposed port extension are exempt from consideration under Executive Order 12866.

Drafting Information

The principal author of this document was Isaac D. Levy, Regulations Branch, Office of Regulations and Rulings, CBP. However, personnel from other offices participated in its development.

Dated: January 9, 2004.
Robert C. Bonner,
Commissioner, Customs and Border Protection.
Tom Ridge,
Secretary, Department of Homeland Security.

[FR Doc. 04-813 Filed 1-13-04; 8:45 am]

BILLING CODE 4820-02-P